DEPARTMENT OF ENERGY

Federal Energy Regulatory Commission

[Docket No. EC03-136-000, et al.]

Empire Connection LLC, et al.; Electric Rate and Corporate Filings

September 22, 2003.

The following filings have been made with the Commission. The filings are listed in ascending order within each docket classification.

1. Empire Connection LLC, New York Transmission Holdings Corp.

[Docket Nos. EC03-136-000]

Take notice that on September 11, 2003, Empire Connection LLC (EC) and NYT Holdings Corp. (NYT Holdings) (jointly, Applicants) filed with the Federal Energy Regulatory Commission a joint application pursuant to Section 203 of the Federal Power Act for the disposition of jurisdictional facilities relating to the transfer of indirect upstream membership interests in EC to NYT Holdings. EC states that it is authorized to sell transmission rights at negotiated rates, subject to certain conditions, on transmission facilities for which construction has not yet begun.

Comment Date: October 2, 2003.

2. Cities of Azusa, Banning, Colton, and Riverside, California

[Docket No. EL03-228-000]

Take notice that on September 12, 2003, the Cities of Azusa, Banning, Colton, and Riverside, California (Cities) submitted a Petition for Declaratory Order clarifying the Cities' rights and obligations under the Wholesale Distribution Access Tariff (WDAT) of the Southern California Edison Company (SCE), on file with the Commission as SCE FERC Electric Tariff First Revised Volume No. 5.

Comment Date: October 14, 2003.

3. Quark Power L.L.C.

[Docket No. ER97-2374-013]

Take notice that on September 10, 2003, Quark Power L.L.C. (Quark) tendered for filing its triennial market power analysis in support of its market-based rate authority in compliance with the Commission's June 6, 1997 and August 3, 2000, Orders accepting Quark's market-based rate schedule.

Comment Date: October 1, 2003.

4. Empire Connection LLC

[Docket No. ER03-452-001]

Take notice that on September 11, 2003, Empire Connection LLC (EC) submitted for filing its FERC Electric Tariff, Original Volume No. 1 pursuant to the authorization to sell transmission rights at negotiated rates granted in Conjunction LLC, 103 FERC ¶ 61,198, and EC's Procedures for Implementation of Standards of Conduct and the Standards of Conduct required under Order No. 889.

Comment Date: October 2, 2003.

5. Connecticut Jet Power LLC

[Docket No. ER03-563-020]

Take notice that on September 10, 2003, Connecticut Jet Power LLC, tendered for filing, information supporting the fixed cost portion of the PUSH Reference Levels for its six generating units at its Cos Cob, Torrington, Franklin Drive and Branford Stations, which are located in the Connecticut and Southwest Connecticut Designated Congestion Areas.

Connecticut Jet Power LLC states that they have provided a copy of this filing to ISO-NE on the date of filing and to each person designated on the official service list.

Comment Date: October 1, 2003.

6. New England Power Pool

[Docket No. ER03-894-002]

Take notice that on September 15, 2003, the New England Power Pool (NEPOOL) Participants Committee and ISO New England Inc. (the ISO) (jointly, Participants Committee), filed for acceptance a filing in compliance with the Commission's August 15, 2003 Order Rejecting Proposed Hydro Quebec Interconnection Credit Values and Adopting Values, issued in Docket Nos. ER03-894-000 and ER03-894-001, 104 FERC ¶ 61,218. NEPOOL and the ISO report that Hydro Quebec Interconnection Capability Credit (HQICC) values have been established for the period October 2003 through May 2004 as directed in the August 15, 2003 order.

The Participants Committee states that copies of these materials were sent to the New England state governors and regulatory commissions and the Participants in NEPOOL.

Comment Date: October 6, 2003.

7. Idaho Power Company

[Docket Nos. ER03-953-001, ER03-954-001 and ER03-964-001]

Take notice that on September 12, 2003, Idaho Power Company, tendered for filing, in compliance with the Letter Order dated August 11, 2003 in Docket Nos. ER03-953-000 and ER03-954-001 and the Letter Order dated August 13, 2003 in Docket No. ER03-964-000, submitted the following documents designated in accordance with Order No. 614, FERC Stats.& Regs. Preambles ¶ 31,096 (2000):

• First Revised FERC Electric Rate Schedule No. 28 superseding FERC Electric Rate Schedule No. 28, Interconnection Agreement among Idaho Power Company, the Washington Water Power Company, and Pacific Power and Light Company;

• First Revised FERC Electric Rate Schedule No. 69 superseding FERC Electric Rate Schedule No. 69, Interconnection and Transmission Services Agreement between Idaho Power Company and Sierra Pacific Power Company;

• First Revised FERC Electric Rate Schedule No. 72 superseding FERC Electric Rate Schedule No. 72, Transmission Services Agreement between Idaho Power Company and the City of Seattle;

• First Revised FERC Electric Rate Schedule No. 74 superseding FERC Electric Rate Schedule No. 74, Agreement for Supply of Power and Energy between Idaho Power Company and Washington City, Utah, as well as a Notice of Cancellation of First Revised FERC Electric Rate Schedule No. 74;

• First Revised FERC Electric Rate Schedule No. 75 superseding FERC Electric Rate Schedule No. 75, Agreement for Supply of Power and Energy between Idaho Power Company and the Utah Associated Municipal Systems;

• First Revised FERC Electric Rate Schedule No. 77 superseding FERC Electric Rate Schedule No. 77, Transmission Services Agreement Executed by the United States of America Department of Energy, acting by and through the Bonneville Power Administration, and Idaho Power Company, as well as a Notice of Cancellation of First Revised FERC Electric Rate Schedule No. 77;

• First Revised FERC Electric Rate Schedule No. 87 superseding FERC Electric Rate Schedule No. 87, Idaho Power Company and PacifiCorp Electric Operations Restated Transmission Service Agreement; and

• First Revised Service Agreement No. 165 superseding Original Service Agreement No. 165 under Idaho Power's FERC Electric Tariff First Revised Volume No. 5, Service Agreement between Idaho Power Company and Bonneville Power Administration for Firm Point-to-Point Transmission Service under Idaho Power Company's Open Access Transmission Tariff.

Comment Date: October 3, 2003.

8. NRG Marketing Services LLC

[Docket No. ER03-955-001]

Take notice that on September 12, 2003, NRG Marketing Services LLC amended its application for market-based rate authorization filed in Docket No. ER03-955-000 on June 16, 2003.

Comment Date: October 3, 2003.

9. Mirant Las Vegas, LLC

[Docket No. ER03-1047-001]

Take notice that on September 12, 2003, Mirant Las Vegas, LLC (MLV) filed compliance tariff sheets as required by Commission's Order dated September 5, 2003, 104 FERC ¶ 61,242.

MLV states that it has served copies of filing on the official service list in this proceeding and the Nevada Public Utilities Commission.

Comment Date: October 3, 2003.

10. Western Systems Power Pool, Inc.

[Docket No. ER03-1149-001]

Take notice that on September 16, 2003, the Western Systems Power Pool, Inc. (WSPP) submitted changes to the WSPP Agreement to correct the table of contents and cover page to reflect the effective date and section name and number changes approved as amendments by the FERC by Order dated September 11, 2003. WSPP states that it seeks an effective date of October 1, 2003 for these corrections. This is the same date on which the amendments shall become effective.

WSPP states that copies of the transmittal letter have been served on all state commissions within the United States. This filing also has been posted on the WSPP homepage (www.wspp.org) thereby providing notice to all WSPP members.

Comment Date: October 7, 2003.

11. Sierra Pacific Energy Company

[Docket No. ER03-1237-000]

Take notice that on August 22, 2003, Sierra Pacific Energy Company (SPEC) tendered for filing a Notice of Cancellation of its Market Rate Authority issued by Commission's Order dated January 12, 2003 in Docket No. ER00-500-000. SPEC requests an effective date of August 21, 2003.

Comment Date: September 26, 2003.

12. New England Power Pool and ISO New England Inc.

[Docket Nos. ER03-1318-000 and ER03-1318-001]

Take notice that on September 9, 2003, as supplemented on September 12, 2003, the New England Power Pool (NEPOOL) Participants Committee and ISO New England Inc (ISO-NE), jointly filed revisions to NEPOOL Market Rule 1 to implement a Forward Reserve Market in New England. A November 15, 2003 effective date is requested.

The NEPOOL Participants Committee and ISO-NE state that copies of these materials were sent to the NEPOOL Participants, Non-Participant Transmission Customers and the New England state governors and regulatory commissions.

Comment Date: October 3, 2003.

13. Kansas City Power & Light Company

[Docket No. ER03-1324-000]

Take notice that on September 10, 2003, Kansas City Power & Light Company (KCPL) tendered for filing an Amendatory Agreement No. 2, dated August 21, 2003, between KCPL and the City of Ottawa, Kansas. KCPL proposes and effective date of October 1, 2003 and requests any necessary waiver of the Commission's notice requirement.

KCPL states that this Amendment provides for an additional point of interconnection.

Comment Date: October 1, 2003.

14. Mid-Continent Area Power Pool

[Docket No. ER03-1325-000]

Take notice that on September 10, 2003, the Mid-Continent Area Power Pool (MAPP), tendered for filing an amendments to the Restated Agreement that propose to modify Service Schedule B to the Restated Agreement.

MAPP states that a copy of this filing has been served on all MAPP members and the state commissions in the MAPP region. MAPP states that it has posted the filing on the MAPP Web site at http://www.mapp.org.

Comment Date: October 1, 2003.

15. South Point Energy Center, LLC

[Docket No. ER03-1327-000]

Take notice that on September 11, 2003, South Point Energy Center, LLC tendered for filing a proposed change to the Western Systems Power Pool Rate Schedule FERC No. 6 to reflect the admission of South Point Energy Center, LLC to membership in the Western Systems Power Pool Agreement.

Comment Date: October 2, 2003]

16. Sierra Pacific Resources Operating Companies

[Docket No. ER03-1328-000]

Take notice that on September 11, 2003, Sierra Pacific Resources Operating Companies tendered for filing amendments to its Open Access Transmission Tariff to implement revised rates for transmission service offered by its subsidiary Nevada Power Company.

Comment Date: October 2, 2003.

17. Central Maine Power Company

[Docket No. ER03-1329-000]

Take notice that on September 12, 2003, Central Maine Power Company (CMP) tendered for filing an unexecuted Service Agreement for Non-Firm Local Point-to-Point Transmission Service entered into with Androscoggin Reservoir Company. Service under the Transmission Service Agreement will be provided pursuant to CMP's Open Access Transmission Tariff, designated rate schedule CMP-FERC Electric Tariff, Fifth Revised Volume No. 3, Original Service Agreement Number 194.

Comment Date: October 3, 2003.

18. Ebersen, Inc.

[Docket No. ER03-1330-000]

Take notice that on September 12, 2003, Ebersen, Inc., filed a request for acceptance of Rate Schedule No. 1, the granting of certain blanket approvals, the authority to sell electricity at market-based rates, and the waiver of certain Commission regulations. Ebersen, Inc. states that it is an energy marketer and that it purchases and sells energy and wholesales electric power with no affiliation or intention to engage in the business of generating or transmitting electric power.

Comment Date: October 3, 2003.

19. Williams Power Company, Inc.

[Docket No. ER03-1331-000]

Take notice that on September 12, 2003, Williams Power Company, Inc. (WPC) submitted for filing a Notice of Succession, pursuant to Sections 35.16 and 131.51 of the Commission's regulations. Williams Energy Marketing & Trading Company (WEMT) states that it changed its name to WPC, and accordingly WPC is successor to WEMT's FERC Rate Schedule No.1 as amended; all rate schedules filed by any party to which WEMT has been a party as may be amended; and the agreements entered into by WEMT thereunder.

Comment Date: October 7, 2003.

20. FPL Energy Oklahoma Wind, LLC

[Docket No. ER03-1332-000]

Take notice that on September 12, 2003, FPL Energy Oklahoma Wind, LLC tendered for filing an application for authorization to sell energy and capacity at market-based rates pursuant to Section 205 of the Federal Power Act.

Comment Date: October 3, 2003.

21. FPL Energy Sooner Wind, LLC

[Docket No. ER03-1333-000]

Take notice that on September 12, 2003, FPL Energy Sooner Wind, LLC tendered for filing an application for authorization to sell energy and capacity at market-based rates pursuant to section 205 of the Federal Power Act.

Comment Date: October 3, 2003.

22. Allegheny Trading Finance Company

[Docket Nos. ER03-1334-000 and ER03-1334-001]

Take notice that on September 12, 2003, as supplemented on September 16, 2003, Allegheny trading Finance Company (AF) filed a Notice of Cancellation of its FERC Electric Tariff, Original Volume No. 1, which was originally accepted for filing on October 22, 2002 in Docket No. ER03-65-000, 101 FERC ¶ 61,278.

Comment Date: October 7, 2003.

23. Commonwealth Edison Company

[Docket No. ER03-1335-000]

Commonwealth Edison Company of Indiana, Inc.

Take notice that on September 12, 2003, Commonwealth Edison Company and Commonwealth Edison Company of Indiana, Inc. (ComEd) tendered for filing with the Federal Energy Regulatory Commission (Commission) proposed changes to its rates for transmission and scheduling services. ComEd requests that the proposed rates become effective in two stages. ComEd requests an effective date for the first stage of November 1, 2003, and requests an effective date for the second stage as of the ComEd Integration Date into PJM Interconnection, LLC, and accordingly requests waiver of all applicable requirements to permit the effective dates requested.

ComEd states that copies of the filing were served upon the affected state commissions, and copies of the transmittal letter were served on ComEd's transmission customers, and on parties to the service list in Docket No. ER03-262-000. ComEd also states that in addition, the filing, in its entirety, is being posted on the ComEd Web site at http://www.comedtransmission.com, and hard copies will be made available to any customer upon request.

Comment Date: October 3, 2003.

24. Illinois Power Company

[Docket No. ER03-1342-000]

Take notice that on September 15, 2003, Illinois Power Company (Illinois Power), filed a Second Revised Interconnection Operating Agreement entered into with Aquila Piatt County Power L.L.C. and subject to Illinois Power's Open Access Transmission Tariff.

Illinois Power requests an effective date of August 26, 2003 for the Second Revised Interconnection Agreement and seeks a waiver of the Commission's notice requirement. Illinois Power states that it has served a copy of the filing on Aquila Piatt County Power L.L.C.

Comment Date: October 6, 2003.

25. American Electric Power Service Corporation

[Docket No. ER03-1344-000]

Take notice that on September 15, 2003, American Electric Power Service Corporation (AEPSC) as agent for West Texas Utilities Company (now known as AEP Texas North Company), tendered for filing pursuant to Section 35.15 of the Federal Energy Regulatory Commission's regulations, a Notice of Cancellation of Service Agreements between West Texas Utilities Company and various entities under WTU FERC Electric Tariff, First Revised Volume No. 8. AEPSC states that the Power Sales Tariff was accepted for filing by the Commission, effective January 1, 1997 in Docket ER96-2342-000.

AEPSC requests an effective date of September 1, 2003 for the cancellation.

AEPSC states it has served copies of the filing upon the parties listed in Exhibit 1 and the affected state regulatory commissions.

Comment Date: October 6, 2003.

26. Midwest Independent Transmission System Operator, Inc.

[Docket No. ER03-1345-000]

Take notice that on September 15, 2003, the Midwest Independent Transmission System Operator, Inc. (Midwest ISO) submitted for filing revisions to Attachment C of its Open Access Transmission Tariff, FERC Electric Tariff, Second Revised Volume 1 (OATT), pursuant to the Commission's May 16, 2003, Order in Docket No. ER02-573-000.

The Midwest ISO has requested an effective date of 60 days following the Commission's Order accepting the proposed changes, due to necessary software changes and implementation.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region. Midwest ISO also states that in addition, the filing has been electronically posted on the Midwest ISO's Web site at www.midwestiso.org under the heading “Filings to FERC” for other interested parties in this matter. The Midwest ISO will provide hard copies to any interested parties upon request.

Comment Date: October 6, 2003.

27. DTE East China, LLC., DTE River Rouge No. 1, LLC

[Docket No. ER03-1346-000]

Take notice that on September 15, 2003, DTE East China, LLC (East China), and DTE River Rouge No. 1, LLC (River Rouge) tendered for filing pursuant to Section 205 of the Federal Power Act, an application associated with sales of power by East China and River Rouge to The Detroit Edison Company.

East China states that a copy of the application was served upon the Michigan Public Service Commission.

Comment Date: October 6, 2003.

28. Ameren Services Company

[Docket No. ER03-1347-000]

Take notice that on September 16, 2003, Ameren Services Company (ASC) tendered for filing executed Service Agreements for Firm Point-to-Point Services and Non-Firm Point-to-Point Transmission Service between ASC and Tractebel Energy Marketing, Inc. ASC asserts that the purpose of the Agreements is to provide transmission services to Tractebel Energy Marketing, Inc. pursuant to Ameren's Open Access Transmission Tariff.

Comment Date: October 7, 2003.

29. Commonwealth Electric Company

[Docket No. ER03-1348-000]

Take notice that on September 16, 2003, Commonwealth Electric Company (Commonwealth Electric) tendered for filing an executed Related Facilities Agreement between Commonwealth Electric and Entergy Nuclear Generation Company (Entergy). Commonwealth Electric requests an effective date of the Agreement of November 16, 2003.

Commonwealth Electric states that it has served a copy of the filing on Entergy and the Massachusetts Department of Telecommunications and Energy.

Comment Date: October 7, 2003.

30. Southern California Edison Company

[Docket No. ER03-1349-000]

Take notice that on September 15, 2003, Southern California Edison Company (SCE) tendered for filing revised rate sheets (Revised Sheets) to the Agreement For Interconnection Service and the Interconnection Facilities Agreement between SCE and Harbor Cogeneration Company (Harbor), Service Agreement Nos. 2 and 9 under SCE's FERC Electric Tariff, First Revised Volume No. 6. SCE respectfully requests an effective date of August 31, 2003.

SCE states that the Revised Sheets to these agreements reflect an extension of their terms and conditions to provide interconnection service to Harbor's 110 MW generating facility through September 30, 2003. SCE also states that copies of this filing were served upon the Public Utilities Commission of the State of California and Harbor.

Comment Date: October 6, 2003.

31. PJM Interconnection, L.L.C.

[Docket No. ER03-1350-000]

Take notice that on September 16, 2003, PJM Interconnection, L.L.C. (PJM), submitted for filing an interconnection service agreement (ISA) among PJM, Merck & Co, Inc., and PECO Energy.

PJM requests a waiver of the Commission's 60-day notice requirement to permit an August 14, 2003 effective date for the ISA.

PJM states that copies of this filing were served upon the parties to the agreements and the state regulatory commissions within the PJM region.

Comment Date: October 7, 2003.

32. Ameren Energy Resources Generating Company

[Docket No. ER03-1351-000]

Take notice that on September 16, 2003, Ameren Energy Resources Generating Company (AERG), submitted for Commission acceptance or approval a Bi-lateral Electric Power Supply Agreement (BEPSA) for the sale of energy and capacity between AERG and Ameren Energy Marketing Company. AERG requests an effective date of October 1, 2003 for the BEPSA. AERG states that copies of this filing have been served on the Illinois Commerce Commission.

Comment Date: October 7, 2003.

33. Stalwart Power Company

[Docket No. ER03-1352-000]

Take notice that on September 16, 2003, Stalwart Power Company (Stalwart) tendered for filing a Notice of Cancellation of its market-based tariff granted by the Commission in Docket No. ER95-1334-000 on July 1, 1997. Stalwart states that it has not engaged in the wholesale or retail marketing of electricity and has no plans to do so in the future. Stalwart also states that it has no assets or sales; however, the corporate name and corporate structure are being maintained for possible future use.

Comment Date: October 7, 2003.

34. Black Hills Power, Inc., Basin Electric Power Cooperative, Powder River Energy Corporation

[Docket No. ER03-1354-000]

Take notice that on September 16, 2003, Black Hills Power, Inc., Basin Electric Power Cooperative, and Powder River Energy Corporation tendered for filing a joint open access transmission tariff with the Federal Energy Regulatory Commission.

Comment Date: October 7, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-24699 Filed 9-29-03; 8:45 am]

BILLING CODE 6717-01-P